FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Sun Ocean Logistics Corp., 520 S. Mateo Street, Los Angeles, CA 90013, Officers: Simon P. Um, Chief Executive Officer, (Qualifying Individual), Wan Kyu Choi, Secretary.

Air-City (China) Co., Ltd., Floor C7, Wanshun Bldg., No. 89 Huangpu South Rd., Hexi Dist., Tianuin 300201, P.R. of China, Officer: Ronnie Chum, President (Qualifying Individual).

R.B.I. Shipping and Trading, Inc., 25 Milwood Street, Dorchester, MA 02124, Officer: Ralph Beckles, President (Qualifying Individual).

Non-Vessel Operating Common Carrier and Ocean Freight Forwarder Transportation Intermediary Applicants

NISCO Pacific, Inc., 500 West Victoria Street, Compton, CA 90220, Officers: Koichi Nakanishi, President (Qualifying Individual), Misako Nakanishi, Director.

AAA Intercontinental Cargo, 6100 Richmond Street, Suite A113, Houston, TX 77057, Meheddin Meirkhan, Sole Proprietor.

Global Fritz Logistics Service Co. Ltd., 970 West 190th Street, Suite 200, Torrance, CA 90502, Officer: Tayung Soong, President (Qualifying Individual).

Decheng Shipping Group, Ltd., 2248 East 49th Street, Vernon, CA 90058, Officers: Gordon Lee, Vice President (Qualifying Individual), Raymond C. Camero, Director.

EZ Forwarding LLC, 3901 North 29th Avenue, Hollywood, FL 33020, Officers: Sandra Villa, Vice President (Qualifying Individual), Yves Surprenant, President.

Dated: January 24, 2003.
Bryant L. VanBrakle,
Secretary.

[FR Doc. 03-2052 Filed 1-28-03; 8:45 am]

BILLING CODE 6730-01-P